DEPARTMENT OF ENERGY

National Nuclear Security Administration

Proposed Agency Information Collection

AGENCY: National Nuclear Security Administration, U.S. Department of Energy.

ACTION: Notice and Request for OMB review and comment.

SUMMARY: The Department of Energy (DOE) invites public comment on a proposed collection of information that DOE is developing for submission to the Office of Management and Budget (OMB) pursuant to the Paperwork Reduction Act of 1995. This proposed collection would be for use of the American Assured Fuel Supply (AFS). DOE created the AFS, a reserve of low enriched uranium (LEU) to serve as a backup fuel supply for foreign recipients (to be supplied through U.S. persons) or for domestic recipients in the event of a fuel supply disruption. DOE published a Notice of Availability for the AFS on August 18, 2011. DOE now needs to publish an application form to clarify the information that must be provided in a request to access the material in the AFS, as set forth in the Notice of Availability. 76 FR 51357, 51358. This application form is necessary in order for DOE to identify if applicants meet basic requirements for use of the AFS and implement this important nonproliferation initiative.

DATES: Comments regarding this collection must be received on or before June 10, 2013. If you anticipate that you will be submitting comments, but find it difficult to do so within the period of time allowed by this notice, please advise the DOE Desk Officer at OMB of your intention to make a submission as soon as possible. The Desk Officer may be telephoned at 202-395-4718 or contacted by email at chad_s_whiteman@omb.eop.gov.

ADDRESSES: Written comments should be sent to the

DOE Desk Officer, Office of Information and Regulatory Affairs, Office of Management and Budget, New Executive Office Building, Room 10102, 735 17th Street NW., Washington, DC 20503.

And to

Richard Goorevich, Senior Policy Advisor, Office of Nonproliferation and International Security, National Nuclear Security Administration, Department of Energy, 1000 Independence Ave. SW., Washington, DC 20585, Tel: 202-586-0589, Fax: 202-586-1348.

FOR FURTHER INFORMATION CONTACT: Richard Goorevich, Senior Policy Advisor, Office of Nonproliferation and International Security, National Nuclear Security Administration, Department of Energy, 1000 Independence Ave. SW., Washington, DC 20585, Tel: 202-586-0589, Fax: 202-586-1348.

SUPPLEMENTARY INFORMATION: This information collection request contains: (1) OMB No. {“New”}; (2) Information Collection Request Title: The American Assured Fuel Supply Program; (3) Type of Request: New; (4) Purpose: The U.S. Department of Energy (DOE) created the American Assured Fuel Supply (AFS), a reserve of low enriched uranium (LEU) to serve as a backup fuel supply for foreign recipients (to be supplied through U.S. persons) or for domestic recipients in the event of a fuel supply disruption. DOE is committed to making the AFS available to eligible recipients in the case of supply disruptions in the nuclear fuel market. This effort supports the United States Government's nuclear nonproliferation objectives by supporting civilian nuclear energy development while minimizing proliferation risks. DOE published a Notice of Availability for the AFS on August 18, 2011. DOE now needs to publish an application form to clarify the information that must be provided in a request to access the material in the AFS, as set forth in the Notice of Availability. 76 FR 51357, 51358. This application form is necessary in order for DOE to identify if applicants meet basic requirements for use of the AFS and implement this important nonproliferation initiative; (5) Annual Estimated Number of Respondents: 10; (6) Annual Estimated Number of Total Responses: 1; (7) Annual Estimated Number of Burden Hours: 8; (8) Annual Estimated Reporting and Recordkeeping Cost Burden: $1,600.

Statutory Authority: The Secretary of Energy is authorized pursuant to the Atomic Energy Act of 1954, as amended (Pub. L. 83-703, 42 U.S.C. 2011 et seq.) and the Nuclear Non-Proliferation Act of 1978 (NNPA) (Pub. L. 95-242, 22 U.S.C. 3201 et seq.), which encourage the widespread use of atomic energy for peaceful purposes and authorize the Secretary to enter into and distribute nuclear material in cooperation with other nations where appropriate safeguard measures are in place to ensure the material is properly controlled and used for peaceful purposes. In 2005, DOE set aside a portion of its LEU inventory to be used to support the International Atomic Energy Agency's (IAEA) International Nuclear Fuel Bank (INFB) initiative, which is envisioned as an LEU reserve that will be administered by the IAEA and that will serve as a back-up for global supply disruptions. Congress later appropriated $49,540,000 in the Consolidated Appropriations Act, 2008 (Pub. L. 110-161) to fund a portion of the INFB. Congress, in the Explanatory Statement accompanying the House Appropriations Committee Print (which in this Act was given the same effect as a joint explanatory statement), noted that the INFB freed up DOE's LEU set-aside, and recommended DOE also “allow U.S. interests to purchase uranium fuel from the Reliable Fuel Supply [now the AFS] in the event of supply disruption.” (H. Approp. Cmte. Print at 592.)

The sale of LEU from the AFS will be conducted consistent with applicable law, the policies and guidance in the “Secretary of Energy's 2008 Policy Statement on Management of Department of Energy's Excess Uranium Inventory” (March 11, 2008), and the DOE Excess Uranium Inventory Management Plan.

Issued in Washington, DC, on May 6, 2013.
Anne Harrington,
Principal Deputy Administrator, Defense Nuclear Nonproliferation, National Nuclear Security Administration, U.S. Department of Energy.

[FR Doc. 2013-11154 Filed 5-9-13; 8:45 am]

BILLING CODE 6450-01-P